DEPARTMENT OF TRANSPORTATION

National Highway Traffic Safety Administration

[Docket No. NHTSA-2014-0045; Notice 2]

General Motors, LLC, Grant of Petition for Decision of Inconsequential Noncompliance

AGENCY: National Highway Traffic Safety Administration (NHTSA), Department of Transportation (DOT).

ACTION: Grant of petition.

SUMMARY: General Motors, LLC, (GM) has determined that certain model year (MY) 2014 GMC Sierra Denali vehicles do not fully comply with paragraph S3.1.4 of Federal Motor Vehicle Safety Standard (FMVSS) No. 102, Transmission shift position sequence, starter interlock, and transmission braking effect. GM filed a report dated January 31, 2014 pursuant to 49 CFR part 573, Defect and Noncompliance Responsibility and Reports. GM then petitioned NHTSA under 49 CFR part 556 requesting a decision that the subject noncompliance is inconsequential to motor vehicle safety.

ADDRESSES: For further information on this decision contact John Finneran, Office of Vehicle Safety Compliance, National Highway Traffic Safety Administration (NHTSA), telephone (202) 366-5289, facsimile (202) 366-5930.

SUPPLEMENTARY INFORMATION:

I. GM's Petition: Pursuant to 49 U.S.C. 30118(d) and 30120(h) and the rule implementing those provisions at 49 CFR part 556, GM submitted a petition for an exemption from the notification and remedy requirements of 49 U.S.C. Chapter 301 on the basis that this noncompliance is inconsequential to motor vehicle safety.

Notice of receipt of GM's petition was published, with a 30-Day public comment period, on May 22, 2014 in the Federal Register (79 FR 29501). One comment was received from the Advocates for Highway and Auto Safety. To view the petition and all supporting documents log onto the Federal Docket Management System (FDMS) Web site at: http://www.regulations.gov/. Then follow the online search instructions to locate docket number “NHTSA-2014-0045.”

II. Vehicles Involved: Affected are approximately 2,747 MY 2014 GMC Sierra Denali vehicles equipped with RPO code “UHS” instrument cluster displays that were manufactured between July 16, 2013 and January 22, 2014.

III. Noncompliance: GM explains that in certain circumstances the subject vehicles may experience a condition where the instrument cluster resets, and the analog gauges and the PRNDM indicators turn off momentarily to ensure the integrity of the information being displayed by electronic devices. Since all vehicles sold in the U.S. must display the shift positions, including the positions in relation to each other and the position selected whenever the ignition is in a position where the transmission can be shifted; or the transmission is not in park, these vehicles fail to fully meet the requirements set forth in paragraph S3.1.4 of FMVSS No. 102.

IV. Rule Text: Paragraph S3.1.4 of FMVSS No. 102 requires in pertinent part:

S3.1.4 Identification of shift positions and of shift position sequence . . .

S3.1.4.1 Expect as specified in S3.1.4.3, if the transmission shift position sequence includes a park position, identification of shift positions, including the positions in relation to each other and the position selected, shall be displayed in view of the driver whenever any of the following conditions exist:

(a) The ignition is in a position where the transmission can be shifted; or

(b) The transmission is not in park . . .

S3.1.4.3 Such information need not be displayed when the ignition is in a position that is used only to start the vehicle . . .

V. Summary of GM's Analyses: GM stated its belief that the subject noncompliance is inconsequential to motor vehicle safety for the following reasons:

1. GM believes that the condition is extremely unlikely to occur. For the condition to occur, the instrument cluster design input rate must be exceeded. This can only happen under extreme load conditions. For example, GM was able to create the condition in the laboratory by simultaneously inputting a series of warnings into the cluster during an active search of a media device connected to the vehicle while a Bluetooth® connected phone call is received by the vehicle.

2. GM states that any disruption of the PRNDM display as a result of this condition is very brief. In the unlikely event the condition were to occur and the instrument cluster resets, the PRNDM display would be restored within 1.3 seconds. This momentary reset would be a clear indication to the driver that service may be required.

3. GM also believes that the condition has little effect on the normal operation of the vehicle. While the operation of the instrument panel is briefly affected by the underlying condition, none of the other vehicle operations are affected.

4. GM states that the condition is extremely remote and not likely to occur during shifting. Considering the unusual combination of pre-conditions for the condition to occur, it is very unlikely the brief disruption of the PRNDM display would occur when it is needed, i.e., during shifting. Most shifting occurs shortly after the vehicle is started, or just prior to being turned off. In the rare instance of a cluster reset, it would be more likely to occur during driving, not immediately after starting the vehicle or just prior to the driver exiting the vehicle.

5. GM is not aware of any reported instrument cluster resets as a result of the subject noncompliance.

6. GM also expressed its belief that for previous noncompliances that GM believes were similar, NHTSA granted petitions for inconsequential noncompliance.

GM has additionally informed NHTSA that it has corrected the noncompliance so that all future production vehicles will comply with FMVSS No. 102.

In summation, GM believes that the described noncompliance of the subject vehicles is inconsequential to motor vehicle safety, and that its petition, to exempt GM from providing recall notification of noncompliance as required by 49 U.S.C. 30118 and remedying the recall noncompliance as required by 49 U.S.C. 30120 should be granted.

NHTSA'S Decision

NHTSA'S Analysis: GM explains that because they could only duplicate the subject condition with a series of unlikely simultaneous inputs, they believe that the subject noncompliance is not likely to occur. As an example, if all of the following conditions were to occur simultaneously the subject condition may occur causing an instrument cluster reset: A navigation route is active; three cluster warnings are initiated simultaneously; there is an incoming Bluetooth® connected phone call that triggers a Driver Information Center message; and a passenger actively searches a media device that provides more data than a typical radio display (e.g., XM radio, or a paired media device). If all the above were to occur at precisely the same instant (within a millisecond) according the GM, a cluster reset may be triggered. NHTSA agrees with GM that the possibility of this condition occurring is improbable because multiple specific actions must be taken by the driver and/or passenger simultaneously.

GM states that the disruption of the PRNDM as a result of this condition is very brief and in the unlikely event the condition where to occur and the instrument cluster resets, the PRNDM display would be restored within 1.3 seconds. GM also noted that while the operation of the instrument panel would be briefly affected by the underlying condition, no other vehicle operations are affected.

After receipt of GM's petition, NHTSA requested more information regarding the subject noncompliance. GM submitted videos showing that when the condition occurs any existing warning lights extinguish, the indicators (gauges) drop to zero, and operation of the entire instrument panel is interrupted. Specifically, any illuminated telltales extinguish for approximately 1.3 seconds before a bulb check that lasts approximately five seconds is initiated. At the conclusion of the bulb check any previously illuminated telltales will illuminate and remain illuminated.

NHTSA agrees with GM that if the instrument panel reset were to happen it would only be a momentary condition, the instrument panel telltales and indicators would extinguish and return to normal very quickly, with little, if any, impact to the driver.

GM mentioned two previous petitions that the agency granted due to the loss or failure of telltale indications. In the first petition, General Motors Corp.; Grant of Petition for Determination of Inconsequential Noncompliance, 56 FR 33323 (July 19, 1991), the noncompliance would only manifest itself when the headlight high beams were turned on and the cigar lighter was activated. In this situation the required high beam telltale could dim or extinguish altogether for a short period of time while the cigar lighter was being powered. The petition was granted because the agency determined there was no consequence to motor vehicle safety attached to the extinguishment of the high beam telltale.

In the second petition, submitted by Nissan, Nissan North America, Incorporated, Grant of Petition for Decision of Inconsequential Noncompliance, 78 FR 59090 (Sept. 25, 2013), under rare circumstances the transmission gear selected was not always displayed correctly as required. The petition was granted because it was only possible for the gear indication to extinguish when the engine was inactive and the vehicle was inoperable. Upon reactivating the engine the gear indicator displayed the correct gear.

Advocates for Highway and Auto Safety (Advocates), provided comments about GM's petition in response to the petition receipt notice published in the Federal Register. The Advocates do not specifically support the granting or denial of GM's petition, but believe that the existence of such a malfunction raises serious questions regarding vehicle design which can lead to this kind of situation.

Finally, GM states that they are not aware of any reported instrument cluster resets as a result of the subject condition. NHTSA'S Decision: In consideration of the foregoing, NHTSA finds that GM has met its burden of persuasion that the FMVSS No. 102 noncompliance in the affected vehicles is inconsequential to motor vehicle safety. Accordingly, GM's petition is hereby granted and GM is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: 49 U.S.C. 30118, 30120: Delegations of authoriy at 49 CFR 1.95 and 501.8.

Jeffrey M. Giuseppe,
Director, Office of Vehicle Safety Compliance.

[FR Doc. 2016-07092 Filed 3-29-16; 8:45 am]

BILLING CODE 4910-59-P